DEPARTMENT OF EDUCATION

Privacy Act of 1974; System of Records—Even Start Classroom Literacy Interventions and Outcomes Study

AGENCY: Institute of Education Sciences, Department of Education.

ACTION: Notice of new and deleted systems of records.

SUMMARY: In accordance with the Privacy Act of 1974, as amended (Privacy Act), the Department of Education (Department) publishes this notice of a new system of records entitled “Even Start Classroom Literacy Interventions and Outcomes (CLIO) Study (18-13-09)” and deletes the system of records entitled “Even Start Performance Information Reporting System and Experimental Design Study,” (18-02-01), 64 FR 30110-30112 (June 4, 1999) because the Study has been completed.

The new system of records will contain information about adults and children in the William F. Goodling Even Start Family Literacy Programs (Even Start) (Title I, Part B, Subpart 3, Elementary and Secondary Education Act of 1965 (ESEA)) who participate in the CLIO study, on project staff from the Even Start grantees participating in the CLIO study, and on the kindergarten and first grade teachers of CLIO children. That information includes names, addresses, demographic information such as race/ethnicity, age, educational background and Even Start CLIO participating adults' and project staff and teacher responses to interview questions, and the results of literacy assessments of Even Start CLIO participating adults and children.

DATES: The Department seeks comment on the new system of records described in this notice, in accordance with the requirements of the Privacy Act. We must receive your comments on the proposed routine uses for the system of records included in this notice on or before January 5, 2007.

The Department filed a report describing the new system of records covered by this notice with the Chair of the Senate Committee on Homeland Security and Governmental Affairs, the Chair of the House Committee on Government Reform, and the Administrator of the Office of Information and Regulatory Affairs, Office of Management and Budget (OMB) on December 1, 2006. This system of records will become effective at the later date of—(1) the expiration of the 40-day period for OMB review on January 10, 2007 or (2) January 5, 2007, unless the system of records needs to be changed as a result of public comment or OMB review.

ADDRESSES: Address all comments about the proposed routine uses to Dr. Ricky Takai, Associate Commissioner, Evaluation Division, National Center for Education Evaluation and Regional Assistance, Institute of Education Sciences, U.S. Department of Education, 555 New Jersey Avenue, NW., Room 502D, Washington, DC 20208. Telephone: (202) 208-7083. If you prefer to send comments through the Internet, use the following address: comments@ed.gov.

You must include the term “Even Start CLIO” in the subject line of the electronic message.

During and after the comment period, you may inspect all comments about this notice in room 502D, 555 New Jersey Avenue, NW., Washington, DC, between the hours of 8 a.m. and 4:30 p.m., Eastern time, Monday through Friday of each week except Federal holidays.

Assistance to Individuals With Disabilities in Reviewing the Rulemaking Record

On request, we supply an appropriate aid, such as a reader or print magnifier, to an individual with a disability who needs assistance to review the comments or other documents in the public rulemaking record for this notice. If you want to schedule an appointment for this type of aid, please contact the person listed under FOR FURTHER INFORMATION CONTACT.

FOR FURTHER INFORMATION CONTACT: Dr. Ricky Takai. Telephone: (202) 208-7083. If you use a telecommunications device for the deaf (TDD), you may call the Federal Relay Service (FRS) at 1-800-877-8339.

Individuals with disabilities may obtain this document in an alternative format (e.g., Braille, large print, audiotape, or computer diskette) on request to the contact person listed in this section.

SUPPLEMENTARY INFORMATION:

Introduction

The Privacy Act (5 U.S.C. 552a) requires the Department to publish in the Federal Register this notice of a new system of records maintained by the Department. The Department's regulations implementing the Act are contained in the Code of Federal Regulations (CFR) in 34 CFR part 5b.

The Privacy Act applies to information about individuals that contains individually identifiable information and that is retrieved by a unique identifier associated with each individual, such as a name or social security number. The information about each individual is called a “record,” and the system, whether manual or computer-based, is called a “system of records.” The Privacy Act requires each agency to publish notices of new or altered systems of records in the Federal Register and to submit reports to the Administrator of the Office of Information and Regulatory Affairs, OMB, the Chair of the Senate Committee on Homeland Security and Governmental Affairs, and the Chair of the House Committee on Government Reform.

Electronic Access to This Document

You may view this document, as well as all other documents of this Department, that are published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498, or in the Washington, DC area at (202) 512-1530.

Note: The official version of this document is the document published in the Federal Register. Free Internet access to the official edition of the Federal Register and the Code of Federal Regulations is available on GPO Access at: http://www.gpoaccess.gov/nara/index.html.

Dated: December 1, 2006.
Grover Whitehurst,
Director, Institute of Education Sciences.

For the reasons discussed in the preamble, the Director of the Institute of Education Sciences, U.S. Department of Education, publishes a notice of a new and deleted system of records to read as follows:

Deleted System

The Department of Education deletes system of records 18-02-01, “Even Start Performance Information Reporting System and Experimental Design Study,” 64 FR 30110-30112 (June 4, 1999), because the study has been completed.

New System 18-13-09

System Name:

Even Start Classroom Literacy Interventions and Outcomes (CLIO) Study.

Security Classification:

None.

System Location:

Evaluation Division, National Center for Education Evaluation and Regional Assistance, Institute of Education Sciences, U.S. Department of Education, 555 New Jersey Avenue, NW., Room 502D, Washington, DC 20208.

Westat, 1650 Research Boulevard, Rockville, MD 20850.

Categories Of Individuals Covered By The System:

This system contains records on adults and children in the William F. Goodling Even Start Family Literacy Programs (Even Start) program who participate in the CLIO study, on project staff from Even Start grantees participating in the CLIO study, and on the kindergarten and first grade teachers of CLIO children.

Categories Of Records In The System:

This system consists of: (1) The names and addresses of adults and children in the Even Start program who participate in the CLIO study; (2) demographic information such as race/ethnicity, age, and educational background for adults and children participating in the Even Start CLIO Study, for Even Start staff in programs participating in the CLIO study, and for the kindergarten and first grade teachers of CLIO children; (3) responses of adults participating in the Even Start CLIO study and project staff and teachers to interview questions; and (4) and the results of literacy assessments on adults and children participating in the Even Start CLIO study.

Authority For Maintenance Of The System:

The evaluation being conducted is authorized under: (1) Sections 171(b) and 173 of the Education Sciences Reform Act of 2002 (ESRA) (20 U.S.C. 9561(b) and 9563)); and (2) sections 1232(b)(1)(A) and 1239 of the ESEA, as amended by the No Child Left Behind Act of 2001 (NCLB) (20 U.S.C. 6381a(b)(1)(A) and 638lh).

Purpose(s):

The information in this system is used for the following purposes: (1) To fulfill the requirements of the Even Start legislation for an evaluation of Even Start programs; and (2) To provide information on the effectiveness of specific family literacy interventions in those programs for use in improving the Even Start program. Routine Uses Of Records Maintained In The System, Including Categories Of Users And The Purpose Of Such Uses:

The Department of Education (Department) may disclose information contained in a record in this system of records under the routine uses listed in this system of records without the consent of the individual if the disclosure is compatible with the purposes for which the record was collected. These disclosures may be made on a case-by-case basis or, if the Department has complied with the computer matching requirements of the Act, under a computer matching agreement. Any disclosure of individually identifiable information from a record in this system must also comply with the requirements of section 183 of the ESRA (20 U.S.C. 9573) providing for confidentiality standards that apply to all collections, reporting and publication of data by the Institute of Education Sciences.

Contract Disclosure. If the Department contracts with an entity for the purposes of performing any function that requires disclosure of records in this system to employees of the contractor, the Department may disclose the records to those employees. Before entering into such a contract, the Department must require the contractor to maintain Privacy Act safeguards as required under 5 U.S.C. 552a(m) with respect to the records in the system.

Disclosure To Consumer Reporting Agencies:

Not applicable to this system notice.

Policies And Practices For Storing, Retrieving, Accessing, Retaining, And Disposing Of Records In The System:

Storage:

The Department maintains records on CD-ROM, and the contractor maintains data for this system on computers and in hard copy.

Retrievability:

Records in this system are indexed by a number assigned to each individual, which is cross-referenced by the individual's name on a separate list.

Safeguards:

All physical access to the Department's site, and the site of the Department's contractor where this system of records is maintained, is controlled and monitored by security personnel. The computer system employed by the Department offers a high degree of resistance to tampering and circumvention. This computer system limits data access to Department and contract staff on a “need to know” basis, and controls individual users” ability to access and alter records within the system. The contractor, Westat, has established a set of procedures to ensure confidentiality of data. The system ensures that information identifying individuals is in files physically separated from other research data. Westat will maintain security of the complete set of all master data files and documentation. Access to individually identifiable data will be strictly controlled. All data will be kept in locked file cabinets during nonworking hours, and work on hardcopy data will take place in a single room, except for data entry. Physical security of electronic data will also be maintained. Security features that protect project data include: password-protected accounts that authorize users to use the Westat system but to access only specific network directories and network software; user rights and directory and file attributes that limit those who can use particular directories and files and determine how they can use them; e-mail passwords that authorize the user to access mail services; and additional security features that the network administrator establishes for projects as needed. The contractor employees who maintain (collect, maintain, use, or disseminate) data in this system must comply with the requirements of the confidentiality standards in section 183 of the ESRA (20 U.S.C. 9573).

Retention And Disposal:

Records are maintained and disposed of in accordance with the Department of Education's Records Disposition Schedules (ED/RDS). In particular, the Department will follow the schedules outlined in Part 3 (Research Projects and Management Study Records) and Part 14 (Electronic Records) of ED/RDS.

System Manager And Address:

Associate Commissioner, Evaluation Division, National Center for Education Evaluation and Regional Assistance, Institute of Education Sciences, U.S. Department of Education, 555 New Jersey Avenue, NW., Room 502D, Washington, DC 20208.

Notification Procedure:

If you wish to determine whether a record exists regarding you in the system of records, contact the systems manager. Your request must meet the requirements of regulations at 34 CFR 5b.5, including proof of identity.

Record Access Procedure:

If you wish to gain access to your record in the system of records, contact the system manager. Your request must meet the requirements of regulations at 34 CFR 5b.5, including proof of identity.

Contesting Record Procedure:

If you wish to contest the content of a record regarding you in the system of records, contact the system manager. Your request must meet the requirements of regulations at 34 CFR 5b.7, including proof of identity.

Record Source Categories:

Information is obtained from interviews with Even Start CLIO study participants, staff, and kindergarten and first grade teachers of CLIO children and direct assessments of Even Start CLIO study participants. Even Start programs participating in CLIO also provide information to the CLIO study on who is participating in the program at each data collection point and their attendance in the program's services.

Exemptions Claimed For The System:

None.

[FR Doc. E6-20681 Filed 12-5-06; 8:45 am]

BILLING CODE 4000-01-P